DEPARTMENT OF HOMELAND SECURITY

Coast Guard

[Docket No. USCG-2014-0098]

Chemical Transportation Advisory Committee

AGENCY: Coast Guard, DHS.

ACTION: Notice of Federal Advisory Committee meeting.

SUMMARY: The Chemical Transportation Advisory Committee (CTAC) and its Subcommittees will meet on April 8, 9, and 10, 2014, in Houston, TX, to discuss the safe and secure marine transportation of hazardous materials. The meetings will be open to the public.

DATES: CTAC Subcommittees will meet on Tuesday, April 8, 2014, from 8:30 a.m. to 5 p.m. and on Wednesday, April 9, 2014, from 8:30 a.m. to 5 p.m. The full CTAC committee will meet on Thursday, April 10, 2014, from 8:30 a.m. to 5 p.m. Please note that the meetings may close early if the committee has completed its business.

All submitted written materials, comments, and requests to make oral presentations at the meeting should reach Mr. Patrick Keffler, Alternate Designated Federal Officer (ADFO) for CTAC no later than April 3, 2014. For contact information please see the “FOR FURTHER INFORMATION CONTACT” section below. Any written material submitted by the public will be distributed to the Committee and become part of the public record.

ADDRESSES: The meetings will be held at the U.S. Coast Guard Sector Houston-Galveston, Rooms 2A00A-2A00E, 13411 Hillard St. Houston, TX, 77034. Attendees will be required to pre-register no later than 5:00 p.m. on April 3, 2014, to be admitted to the meeting. To pre-register contact Lieutenant Cristina Nelson (202-372-1419) or Cristina.E.Nelson@uscg.mil and provide your name, company and telephone number. Attendees will be required to provide a government-issued picture identification card in order to gain admittance to the building.

For information on facilities or services for individuals with disabilities or to request special assistance at the meeting, contact the individual listed in the FOR FURTHER INFORMATION CONTACT, as soon as possible.

To facilitate public participation, we are inviting public comment on the issues to be considered by the committee as listed in the “Agenda” section below. Comments must be submitted in writing no later than April 3, 2014, and may be submitted by one of the following methods:

• Federal eRulemaking Portal: http://www.regulations.gov. Follow the instructions for submitting comments. (Preferred method to avoid delays in processing.)

• Fax: 202-493-2252.

• Mail: Docket Management Facility (M-30), U.S. Department of Transportation, West Building Ground Floor, Room W12-140, 1200 New Jersey Avenue SE., Washington, DC 20590-0001. We encourage use of electronic submissions because security screening may delay the delivery of mail.

• Hand delivery: Same as mail address above, between 9 a.m. and 5 p.m., Monday through Friday, except Federal holidays. The telephone number is 202-366-9329.

To avoid duplication, please use only one of these methods.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov, insert USCG-2014-0098 in the Search box, press Enter, and then click on the item you wish to view.

FOR FURTHER INFORMATION CONTACT: Mr. Patrick Keffler, Alternate Designated Federal Officer (ADFO) of the CTAC, 2703 Martin Luther King Jr. Ave. SE., Stop 7509, Washington DC 20593-7509, telephone 202-372-1424, fax 202-372-8380. If you have any questions on viewing or submitting material to the docket, call Cheryl Collins, Program Manager, Docket Operations, telephone 202-366-9826.

SUPPLEMENTARY INFORMATION: Notice of this meeting is given under the Federal Advisory Committee Act, 5 U.S.C. Appendix (Pub. L. 92-463). CTAC is an advisory committee authorized under section 871 of the Homeland Security Act of 2002, 6 U.S.C. 451, and chartered under the provisions of the FACA. The Committee acts solely in an advisory capacity to the Secretary of the Department of Homeland Security (DHS) through the Commandant of the Coast Guard and the Deputy Commandant for Operations on matters relating to the safe and secure marine transportation of hazardous materials activities insofar as they relate to matters within the United States Coast Guard's (USCG) jurisdiction. The Committee advises, consults with, and makes recommendations reflecting its independent judgment to the Secretary.

Agendas of Meetings

Subcommittee Meetings on April 8 and 9, 2014

Subcommittees will meet to address the items of interest listed in paragraph (3) of the agenda for the April 10 meeting and the tasks given at the last CTAC meeting. These include carriage requirements for biofuels and biofuel blends, safety standards for the design of vessels carrying natural gas or using natural gas as fuel, safety standards for portable facility vapor control systems, implementation of revisions to MARPOL Annex II and the IBC Code, requirements for third-party surveyors of MARPOL Annex II prewash, and implementation of MARPOL discharge requirements under MARPOL Annex II and V.

The detailed task statements from the last CTAC meeting are located at Homeport at the following address: https://homeport.uscg.mil. Go to: Missions > Ports and Waterways > Safety Advisory Committees > CTAC Subcommittees.

The agenda for each Subcommittee will include the following:

1. Review and work on tasks assigned in the detailed task statements mentioned above.

2. Public comment period.

3. Discuss and prepare proposed recommendations for CTAC meeting on April 10 on tasks assigned in detailed task statements mentioned above.

Committee Meeting on April 10

The agenda for the CTAC meeting on April 10, 2014, is as follows:

1. Introductions and opening remarks.

2. Public comment period.

3. Subcommittees will present recommendations on the following items of interest:

a. Harmonization of Response and Carriage Requirements for Biofuels and Biofuel Blends

b. Safety Standards for the Design of Vessels Carrying Natural Gas or Using Natural Gas as Fuel

c. Safety Standards of Portable Facility Vapor Control Systems Used for Marine Operations

d. Implementation of Revisions to MARPOL Annex II and the IBC Code to 46 CFR part 153

e. Requirements for Third-Party Surveyors of MARPOL Annex II Prewash

f. Improving Implementation and Education of MARPOL Discharge Requirements under MARPOL Annex II and V

4. USCG presentations on the following items of interest:

a. Update on International Maritime Organization as it relates to the marine transportation of hazardous materials

b. Update on U.S. regulations as it relates to the marine transportation of hazardous materials

c. Update on Bulk Chemical Data Guide (Blue Book)

d. Vessel to vessel transfer of hazardous materials in bulk

5. Presentation of Announcements.

6. Set next meeting date and location.

7. Set Subcommittee Meeting schedule.

A public comment period will be held during each Subcommittee and the full committee meeting concerning matters being discussed. Public comments will be limited to 3 minutes per speaker. Please note that the public comment period may end before the time indicated following the last call for comments. Please contact Mr. Patrick Keffler, listed in the FOR FURTHER INFORMATION CONTACT section, to register as a speaker.

Dated: March 6, 2014.
J.G. Lantz,
Director of Commercial Regulations and Standards.

[FR Doc. 2014-05608 Filed 3-13-14; 8:45 am]

BILLING CODE 9110-04-P